DEPARTMENT OF COMMERCE

National Oceanic and Atmospheric Administration

RIN 0648-XC416

Mid-Atlantic Fishery Management Council; Public Hearings

AGENCY: National Marine Fisheries Service (NMFS), National Oceanic and Atmospheric Administration (NOAA), Commerce.

ACTION: Notice of public hearings.

SUMMARY: The Mid-Atlantic Fishery Management Council (Council) will hold public hearings on January 15, 16, and 17, 2013 to allow for public input on the potential designation of the State of Delaware's five artificial reef sites located in the Exclusive Economic Zone (EEZ) as Special Management Zones (SMZs) under provisions of Amendment 9 to the Summer Flounder, Scup, and Black Sea Bass Fishery Management Plan (FMP).

DATES: For specific dates and times for the public hearings, see SUPPLEMENTARY INFORMATION below.

ADDRESSES: The hearings will be held (chronologically) in Ocean City, MD; Lewes, DE; and Toms River, NJ. Written comments should be mailed to the Council office at the address below by January 29, 2013 and marked “SMZ Comments.” The public hearing document can be obtained by contacting the Council at the address below or at http://www.mafmc.org/smz.htm.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: All hearings (dates and locations listed below) will be digitally recorded and saved as transcripts of the hearing.

January 15, 2013: 7-9 p.m.; Clarion Resort Fontainebleau Hotel, 10100 Coastal Highway Ocean City, MD 21842; telephone: (410) 524-3535.

January 16, 2013: 7-9 p.m.; DNREC—Division of Watershed Stewardship Bldg., 901 Pilottown Road, Lewes, DE 19958.

January 17, 2013: 7-9 p.m.; Ocean County Administration Building, 101 Hooper Avenue, Public Hearing Room #119, Toms River, NJ 08754.

Special Accommodations

The hearings are physically accessible to people with disabilities. Requests for sign language interpretation or other auxiliary aids should be directed to M. Jan Saunders at the Mid-Atlantic Council Office, (302) 526-5251, at least 5 days prior to the hearing date.

Dated: December 21, 2012.
Tracey L. Thompson,
Acting Deputy Director, Office of Sustainable Fisheries, National Marine Fisheries Service.

[FR Doc. 2012-31148 Filed 12-27-12; 8:45 am]

BILLING CODE 3510-22-P